SOCIAL SECURITY ADMINISTRATION

[Docket No. SSA-2009-0033]

Occupational Information Development Advisory Panel Meeting

AGENCY: Social Security Administration (SSA).

ACTION: Notice of upcoming panel teleconference meeting.

DATES: August 31, 2009, 12 p.m.-2 p.m. (EDT).

Call-in number: 1-866-244-4637, Conference ID: 1367805.

Leader/Host: Debra Tidwell-Peters.

SUPPLEMENTARY INFORMATION:

Type of meeting: The teleconference meeting is open to the public.

Purpose: This discretionary Panel, established under the Federal Advisory Committee Act of 1972, as amended, shall report to the Commissioner of Social Security. The Panel provides independent advice and recommendations on plans and activities to replace the Dictionary of Occupational Titles used in the Social Security Administration's (SSA) disability determination process. The Panel advises the Agency on creating an occupational information system tailored specifically for SSA's disability programs and adjudicative needs. Advice and recommendations will relate to SSA's disability programs in the following areas: Medical and vocational analysis of disability claims; occupational analysis, including definitions, ratings and capture of physical and mental/cognitive demands of work and other occupational information critical to SSA disability programs; data collection; use of occupational information in SSA's disability programs; and any other area(s) that would enable SSA to develop an occupational information system suited to its disability programs and improve the medical-vocational adjudication policies and processes.

Agenda: We will post the agenda for the meeting on the Internet at http://www.ssa.gov/oidap/meeting_information.htm at least one week prior to the start date and you can receive it electronically by e-mail or by fax, upon request. We will keep records of all proceedings and they will be available for public inspection by appointment at the Panel office.

Contact Information: Anyone requiring information regarding the Panel should contact the Panel staff by: Mail addressed to the Occupational Information Development Advisory Panel, Social Security Administration, 6401 Security Boulevard, Operations Building, 3-E-26, Baltimore, MD 21235, fax to (410) 597-0825, or e-mail to OIDAP@ssa.gov.

Debra Tidwell-Peters,
Designated Federal Officer.

[FR Doc. E9-18320 Filed 7-30-09; 8:45 am]

BILLING CODE 4191-02-P